DEPARTMENT OF AGRICULTURE

Animal and Plant Health Inspection Service

7 CFR Part 340

[Docket No. APHIS-2006-0112]

RIN 0579-AC31

Introduction of Organisms and Products Altered or Produced Through Genetic Engineering

Correction

In proposed rule document 07-3474 beginning on page 39021 in the issue of Tuesday, July 17, 2007, make the following correction:

On page 39021, in the third column, in the second and third lines, “September 17, 2007” should read “September 11, 2007”.

[FR Doc. C7-3474 Filed 7-19-07; 8:45 am]

BILLING CODE 1505-01-D